DEPARTMENT OF HOMELAND SECURITY

Coast Guard

[CGD08-06-012]

Implementation of Sector Upper Mississippi River

AGENCY: Coast Guard, DHS.

ACTION: Notice of organizational change.

SUMMARY: The Coast Guard announces the stand-up of Sector Upper Mississippi River. Sector Upper Mississippi River is an internal reorganization that combines Group Upper Mississippi River and Marine Safety Office St. Louis into a single command. The Coast Guard has established a continuity of operations order whereby all previous practices and procedures will remain in effect until superseded by an authorized Coast Guard official or document.

DATES: This notice is effective April 27, 2006.

ADDRESSES: Documents indicated in this preamble as being available in the docket are part of docket CGD08-06-012 and are available for inspection or copying at Commander (dmpl), Eighth Coast Guard District, 500 Poydras Street, New Orleans, Louisiana 70130-3310 between 7:30 a.m. and 4:30 p.m., Monday through Friday, except Federal holidays.

FOR FURTHER INFORMATION CONTACT: Lieutenant Michael Roschel, Eighth District Planning Office at 504-589-6293.

SUPPLEMENTARY INFORMATION:

Discussion of Notice

The single command center for Sector Upper Mississippi River is located at 1222 Spruce Street, Ste. 8.104E, St. Louis, MO 63103-2825. Sector Upper Mississippi River is composed of a Response Department, Prevention Department, and Logistics Department. Effective April 27, 2006, all existing missions and functions performed by Group Upper Mississippi River and Marine Safety Office St. Louis will be performed by Sector Upper Mississippi River. Group Upper Mississippi River and Marine Safety Office St. Louis will no longer exist as organizational entities.

Sector Upper Mississippi River will be responsible for all Coast Guard Missions in the Sector Upper Mississippi River Marine Inspection zone and Captain of the Port zone. This area of responsibility includes all of Wyoming except for Sweetwater County; Colorado; North Dakota; South Dakota; Kansas; Nebraska; Iowa; all of Missouri with the exception of Perry, Cape Girardeau, Scott, Mississippi, New Madrid, Dunklin, and Pemiscot Counties; that part of Minnesota south of latitude 46°20′ N; that part of Wisconsin south of latitude 46°20′ N, and west of longitude 90°00′ W; that part of Illinois west of longitude 90°00′ W and north of latitude 41°00′ N; and that part of Illinois south of latitude 41°00′ N, except for Jackson, Williamson, Saline, Gellatin, Union, Johnson, Pope, Hardin, Alexander, Pulaski, and Massac Counties; that part of the Upper Mississippi River above mile 109.9, including both banks, and that part of the Illinois River below latitude 41°00′ N.

The boundary changes associated with the implementation of Sector Upper Mississippi River will not affect any of the rights, responsibilities, duties, and authorities of the commanders over the units described in this notice and all previous practices and procedures will remain in effect.

The Sector Upper Mississippi River Commander is vested with all the rights, responsibilities, duties, and authority of a Group Commander and Commanding Officer Marine Safety Office, as provided for in Coast Guard regulations, and is the successor in command to the Commanding Officers of Group Upper Mississippi River and Marine Safety Office St. Louis. The Sector Upper Mississippi River Commander is designated: (a) Captain of the Port (COTP) for the Upper Mississippi River COTP zone; (b) Federal Maritime Security Coordinator (FMSC); (c) Federal On Scene Coordinator (FOSC) for the Upper Mississippi River COTP zone, consistent with the National Contingency Plan; (d) Officer in Charge of Marine Inspection (OCMI) for the Upper Mississippi River Marine Inspection Zone; and (e) Search and Rescue Mission Coordinator (SMC). The Deputy Sector Commander is designated alternate COTP, FMSC, FOSC, SMC, and Acting OCMI.

A continuity of operations order has been issued ensuring that all previous Group Upper Mississippi River and Marine Safety Office St. Louis practices and procedures remain in effect until superseded by Commander, Sector Upper Mississippi River. This continuity of operations order addresses existing COTP regulations, orders, directives, and policies.

Following is a list of updated command titles, addresses and points of contact to facilitate requests from the public and assist with entry into security or safety zones:

Name: Sector Upper Mississippi River.

Address: Commander, U.S. Coast Guard Sector Upper Mississippi River, 1222 Spruce Street, Ste. 8.104E, St. Louis, MO 63103-2825.

Contact: General Number, (314) 269-2500, Sector Commander: Captain Suzanne Englebert; Deputy Sector Commander: Lieutenant Commander Frank Kulhawick.

Chief, Prevention Department: (314) 269-2560, Chief, Response Department: (314) 269-2540, Chief, Logistics Department: (314) 269-2510.

Dated: April 19, 2006.
R.F. Duncan,
Rear Admiral, U.S. Coast Guard Commander, Eight Coast Guard District.

[FR Doc. E6-6459 Filed 4-28-06; 8:45 am]

BILLING CODE 4910-15-P